DEPARTMENT OF JUSTICE

Office of Justice Programs

[OJP(OJP)-1313]

Notice of Availability of the Record of Decision for the Final Environmental Impact Statement, Center for Domestic Preparedness, Fort McClellan, Anniston, Alabama

AGENCY: Office of Justice Programs, Justice.

ACTION: Notice of availability of record of decision.

SUMMARY: The Department of Justice, Office of Justice Programs, has prepared a Record of Decision (ROD) for the Final Environmental Impact Statement for the Center for Domestic Preparedness located at Fort McClellan, Anniston, Alabama. This ROD is a statement of the decision made, the background of the project, other alternatives considered, the basis for the decision, the preferable alternative, measures to minimize environmental harm, and public involvement in the decision-making process.

DATES: The ROD will become effective upon signature by the Assistant Attorney General, Office of Justice Programs.

ADDRESSES: Copies of the ROD for the Final Environmental Impact Statement, Center for Domestic Preparedness, Fort McClellan, Alabama, have been provided to the following locations for public review:

1. United States Department of Justice, Office of Justice Programs, Office of the General Counsel, Room 5411, 810 Seventh Street, NW., Washington, DC 20531.

2. The Center for Domestic Preparedness, P.O. Box 5100, 61 Parliament Rd., Ft. McClellan, Anniston, AL 36205.

3. Anniston-Calhoun County Public Library, 108 East Tenth Street, Anniston, AL 36202.

4. Jacksonville Public Library, 200 Pelham Road, North Jacksonville, AL 36205.

5. Cole Library, Jacksonville State University, 700 Pelham Road, North Jacksonville, AL 36265-1602.

6. Oxford Public Library, 213 Chocclocco Street, Oxford, AL 36203.

7. Talladega Public Library, 202 East South Street, Talladega, AL 35160.

FOR FURTHER INFORMATION CONTACT: For copies of the ROD or additional information, please contact: L.Z. Johnson, Director, Center for Domestic Preparedness, P.O. Box 5100, Fort McClellan, Anniston, AL 36205, (256) 847-2000.

Dated: April 27, 2001.
Alexa Verveer,
Deputy Assistant Attorney General.

[FR Doc. 01-11808 Filed 5-10-01; 8:45 am]

BILLING CODE 4410-18-P